INTERNATIONAL TRADE COMMISSION

[Investigations Nos. 731-TA-466, 465, and 468 (Review)]

Sodium Thiosulfate From China, Germany, and the United Kingdom

Determinations

On the basis of the record ¹ developed in the subject five-year reviews, the United States International Trade Commission determines, pursuant to section 751(c) of the Tariff Act of 1930 (19 U.S.C. 1675(c)), that revocation of the antidumping duty orders on sodium thiosulfate from China, Germany, and the United Kingdom would be likely to lead to continuation or recurrence of material injury to an industry in the United States within a reasonably foreseeable time.

¹ The record is defined in sec. 207.2(f) of the Commission's Rules of Practice and Procedure (19 C.F.R. 207.2(f)).

Background

The Commission instituted these reviews on July 1, 1999 (64 FR 35687, July 1, 1999) and determined on October 1, 1999 that it would conduct expedited reviews (64 FR 55959, October 15, 1999). The Commission transmitted its determinations in these reviews to the Secretary of Commerce on February 17, 2000. The views of the Commission are contained in USITC Publication 3279 (February 2000), entitled Sodium Thiosulfate from China, Germany, and the United Kingdom: Investigations Nos. 731-TA-465, 466, and 468 (Review).

Issued: February 15, 2000.
By order of the Commission.
Donna R. Koehnke,
Secretary.

[FR Doc. 00-4359 Filed 2-23-00; 8:45 am]

BILLING CODE 7020-02-P